DEPARTMENT OF EDUCATION

[Docket No.: ED-2024-SCC-0016]

Agency Information Collection Activities; Submission to the Office of Management and Budget for Review and Approval; Comment Request; High School Equivalency Program (HEP) Annual Performance Report

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before June 5, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Katrina Ballard, (202) 987-0702.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: High School Equivalency Program (HEP) Annual Performance Report.

OMB Control Number: 1810-0684.

Type of Review: Revision of a currently approved ICR.

Respondents/Affected Public: State, Local, and Tribal Governments.

Total Estimated Number of Annual Responses: 54.

Total Estimated Number of Annual Burden Hours: 1,242.

Abstract: This is a request for a revision of the 1810-0684 High School Equivalency Program (HEP) Annual Performance Report collection. These revisions include language replacements, removals, and additions that are intended to ensure compliance with EDGAR 34 CFR 75.110 and OMB Circular A-110, improve the clarity of instructions and data collection, and remove duplicative language. Substantive changes include the addition of a data element related to mode of instruction. For a complete list of revisions, please see the attached summary, which will be shared with the public and OMB as a supplemental document. The Office of Migrant Education (OME) is collecting information for the High School Equivalency Program (HEP) which is authorized under title IV, section 418A of the Higher Education Act of 1965, as amended by section 408 of the Higher Education Opportunity Act (HEOA) (20 U.S.C. 1070d-2) (special programs for students whose families are engaged in migrant and seasonal farm work) and 2 CFR 200.328 which requires that recipients of discretionary grants submit an Annual Performance Report (APR) to best inform improvements in program outcomes and productivity.

Although the Education Department continues to use the generic 524B, OME is requesting to continue the use of a customized APR that goes beyond the generic 524B APR to facilitate the collection of more standardized and comprehensive data to inform performance indicators, to improve the overall quality of data collected, and to increase the quality of data that can be used to inform policy decisions.

Although the Education Department continues to use the generic 524B, OME is requesting to continue the use of a customized APR that goes beyond the generic 524B APR to facilitate the collection of more standardized and comprehensive data to inform Government Performance Results Act (GPRA) indicators, to improve the overall quality of data collected, and to increase the quality of data that can be used to inform policy decisions.

Dated: April 30, 2024.
Kun Mullan,
PRA Coordinator, Strategic Collections and Clearance, Governance and Strategy Division, Office of Chief Data Officer, Office of Planning, Evaluation and Policy Development.

[FR Doc. 2024-09741 Filed 5-3-24; 8:45 am]

BILLING CODE 4000-01-P